DEPARTMENT OF COMMERCE

National Oceanic and Atmospheric Administration

50 CFR Parts 679 and 680

[Docket No. 180327320-8320-01]

RIN 0648-BH88

Fisheries of the Exclusive Economic Zone Off Alaska; Prohibit Directed Fishing for American Fisheries Act Program and Crab Rationalization Program Groundfish Sideboard Limits in the BSAI and GOA

AGENCY: National Marine Fisheries Service (NMFS), National Oceanic and Atmospheric Administration (NOAA), Commerce.

ACTION: Proposed rule; request for comments.

SUMMARY: NMFS proposes regulations to modify management of the American Fisheries Act (AFA) Program and Crab Rationalization (CR) Program. This proposed rule has two related actions. The first action would modify regulations for AFA Program and CR Program vessels subject to limits on the catch of specific species (sideboard limits) in the Bering Sea and Aleutian Islands (BSAI) Management Area and Gulf of Alaska (GOA) Management Area. The second action would remove the requirement for the designated representatives of AFA inshore cooperatives to submit a weekly catch report. This proposed rule is intended to reduce administrative burdens associated with managing sideboard limits through annual harvest specifications, although it would not change NMFS's inseason management of sideboard limits and reduce reporting burdens for the designated representatives and members of AFA inshore cooperatives.

DATES: Comments must be received no later than September 17, 2018.

ADDRESSES: Submit your comments, identified by NOAA-NMFS-2018-0045, by either of the following methods:

• Federal e-Rulemaking Portal. Go to www.regulations.gov/#!docketDetail;D=NOAA-NMFS-2018-0045, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the Regulatory Impact Review (the “Analysis”) prepared for this proposed rule may be obtained from www.regulations.gov.

Written comments regarding the burden-hour estimates or other aspects of the collection-of-information requirements contained in this rule may be submitted by mail to NMFS at the above address; and to OIRA by email to OIRA_Submission@omb.eop.gov or by fax to (202) 395-5806.

FOR FURTHER INFORMATION CONTACT: Obren Davis, (907) 586-7228.

SUPPLEMENTARY INFORMATION:

Authority for Action

NMFS manages the groundfish fisheries in the exclusive economic zone of the BSAI and Gulf of Alaska (GOA) under the Fishery Management Plan for Groundfish of the Bering Sea and Aleutian Islands Management Area (BSAI FMP), and the Fishery Management Plan for Groundfish of the Gulf of Alaska (GOA FMP). NMFS manages vessels subject to specific limitations on the catch of specific species or species groups (sideboard limits) under the AFA Program under the BSAI and GOA FMPs, and NMFS manages vessels and License Limitation Program (LLP) licenses subject to sideboard limits under the CR Program under the Fishery Management Plan for Bering Sea/Aleutian Islands King and Tanner Crabs (Crab FMP). The North Pacific Fishery Management Council (Council) prepared these FMPs under the authority of the Magnuson-Stevens Fishery Conservation and Management Act (Magnuson-Stevens Act), 16 U.S.C. 1801 et seq. Regulations implementing the BSAI and GOA FMPs are located at 50 CFR part 679. Regulations implementing the Crab FMP are located at 50 CFR part 680. General regulations governing U.S. fisheries also appear at 50 CFR part 600.

Background

This proposed rule includes two related actions. The first action would revise regulations at § 679.64 and § 680.22 for sideboard limits that apply to two categories of vessels that operate in the BSAI or GOA: (1) AFA catcher/processors (C/Ps) listed in regulation at § 679.4(l)(2)(i) (described as AFA C/Ps in this proposed rule), and AFA catcher vessels (CVs) permitted to harvest Bering Sea pollock as established in regulation at § 679.4(l)(3); and (2) vessels and LLP licenses subject to sideboard restrictions in the GOA based on criteria as established in regulation at § 680.22(a) under the CR Program. This first action would prohibit directed fishing for groundfish species or species groups that are subject to sideboard limits that are not large enough to support directed fishing as that term is defined at § 679.2. In addition, under the first action, this proposed rule would remove a sideboard limit at § 679.64(a)(1)(ii)(B) for AFA C/Ps in one management area (Central Aleutian Islands (AI)) for one species (Atka mackerel) that is currently subject to a more restrictive limit under existing regulations at 50 CFR 679.91(c)(2)(ii) and Table 33 to 50 CFR part 679.

The first action under this proposed rule is necessary to streamline and simplify NMFS's management of applicable groundfish sideboard limits. NMFS calculates numerous AFA Program and CR Program sideboard limits as part of the annual BSAI and GOA harvest specifications process and publishes these limits in the Federal Register. Concurrently, NMFS prohibits directed fishing for the majority of the groundfish subject to these sideboard limits because most sideboard limits are too small each year to support directed fishing. The most recent example of the annual BSAI and GOA harvest specifications with the AFA Program and CR Program sideboard limits can be found at 83 FR 8365, February 27, 2018, for the BSAI, and at 83 FR 8768, March 1, 2018, for the GOA. Rather than continue this annual process of calculating all sideboard limits and then closing most to directed fishing, the first action of this proposed rule would revise regulations to prohibit directed fishing by non-exempt AFA Program and CR Program vessels for those groundfish species and species groups subject to sideboard limits if those species or species groups have not been opened to directed fishing or are not expected to be opened to directed fishing in the foreseeable future (see Section 2.7 of the Analysis for additional detail on the management of AFA Program and CR Program sideboard limits). Also, NMFS would cease calculating and publishing each year the relevant sideboard limits and their corresponding directed fishing prohibitions in the BSAI and GOA groundfish harvest specifications.

The second action of this proposed rule would remove the requirement for the designated representatives of AFA inshore cooperatives (described later in this preamble) to submit a weekly catch report described in regulation at §§ 679.5(o) and 679.62(b)(3). NMFS proposes to remove this requirement because the information in the weekly catch report is collected by NMFS through other recordkeeping and reporting requirements, and this weekly catch report is no longer necessary for NMFS to manage the AFA inshore pollock allocations.

This first action of this proposed rule was initiated after the Council received a report on the AFA Program in October 2016. As part of the review, NMFS identified potential improvements in the management of the AFA Program by streamlining and simplifying the management of the sideboard limits included under the AFA: NMFS recommended revising regulations to prohibit directed fishing by AFA vessels for those species or species groups (and any future break-out or combination of these species) where the sideboard limits are not large enough to support directed fishing and would not be large enough in the foreseeable future to support directed fishing. During subsequent review of this proposed action, NMFS expanded the scope of the review to include an analysis of revising regulations to prohibit crab vessels in the CR Program from directed fishing in the GOA for those species with sideboard limits that are not large enough to support directed fishing and would not be large enough in the foreseeable future to support directed fishing. At its February 2018 meeting, the Council selected Alternative 2 and Option 1 as its preferred recommendation to the Secretary of Commerce. The Council's recommendation, implemented through this proposed rule, would prohibit directed fishing by regulation for all species or species groups with insufficient sideboard limits for directed fishing by vessels in both AFA and CR Programs, and would remove from regulation the sideboard limit on AFA C/Ps for Central AI Atka mackerel harvest because the harvest of Central AI Atka mackerel by AFA C/Ps is constrained by other, existing regulations.

The following discussion summarizes groundfish sideboard limits, the AFA Program and AFA sideboard limits, the CR Program and CR Program sideboard limits, the annual harvest specifications process and the management of AFA Program and CR Program sideboard limits through that annual process, AFA Inshore Cooperative reporting requirements, and this proposed rule.

Groundfish Sideboard Limits

The Council and NMFS generally establish catch limits, commonly called sideboard limits, when implementing Limited Access Privilege Programs (LAPP). The term “Limited Access Privilege” is defined in section 3(26) of the Magnuson-Stevens Act (16 U.S.C. 1802). Sideboard limits are intended to prevent participants who benefit from receiving exclusive harvesting privileges in a LAPP from shifting effort into other fisheries. Sideboard limits establish limits on the annual amount of a particular groundfish total allowable catch (TAC) limit or prohibited species catch (PSC) limit that is available for participants in a given LAPP.

The AFA Program and AFA Program Sideboard Limits

The Bering Sea pollock fishery is managed under the authority of the AFA (16 U.S.C. 1851 note) and the Magnuson-Stevens Act. The AFA Program is a LAPP that established in the Bering Sea pollock fishery directed fishing allocations to an inshore and an offshore component (commonly called the inshore and offshore sectors). The AFA also determined eligible vessels and processors in the Bering Sea pollock fishery; allowed the formation of cooperatives of catcher vessels in association with specific processors in the inshore sector; established sideboard limits; and imposed special catch weighing and monitoring requirements on AFA C/Ps. The AFA was implemented by Amendment 61 to the BSAI FMP, Amendment 61 to the GOA FMP, Amendment 13 to the Crab FMP, and Amendment 8 to the Fishery Management Plan for the Scallop Fishery off Alaska (67 FR 79692; December 30, 2002). The final rule implementing the AFA (67 FR 79692, December 30, 2002) and Section 2.7.1 of the Analysis describe the AFA Program in detail and the basis for the sideboard limits established under the AFA Program.

The final rule implementing the AFA established several different types of sideboard limits for vessels that are authorized to harvest pollock in the Bering Sea. These sideboard limits were established to protect the interests of fishermen and processors who do not directly benefit from the AFA from those fishermen and processors who received exclusive harvesting and processing privileges under the AFA. Essentially, the AFA Program sideboard limits protect non-AFA fishermen and processors by restricting the ability of AFA pollock fishermen and processors to target non-pollock groundfish species and species groups. Some of these sideboard limits were implemented through directed fishing closures in regulations, such as setting the Atka mackerel harvest limit to zero in the Bering Sea subarea and Eastern AI (§ 679.64(a)(1)(ii)(A)). Others were implemented through sideboard limits established through the annual harvest specifications process, which is described later in this preamble.

Section 679.7(k)(1)(ii) prohibits listed AFA C/Ps from harvesting any species of fish in the GOA. Section 679.64(a)(1) establishes sideboard limits for AFA C/Ps for Aleutian Islands Pacific ocean perch (§ 679.64(a)(1)(i)); Atka mackerel (§ 679.64(a)(1)(ii)); flathead sole, rock sole, and yellowfin sole (§ 679.64(a)(1)(iii)); and for the remaining groundfish species (§ 679.64(a)(1)(iv)). Section 679.64(a)(1)(v) establishes an exemption to sideboard limits for AFA C/Ps for yellowfin sole under specific TAC conditions. Section 679.64(a)(2) establishes specific sideboard limits for Pacific halibut and crab incidentally harvested by AFA C/Ps while fishing for groundfish in the BSAI. The methodologies used to assign sideboard limits for these species vary and are described in § 679.64(a).

Section 679.64(a)(1)(ii)(B) establishes a sideboard limit for Central AI (also referred to as Area 542 in regulation) Atka mackerel that is equal to 11.5 percent of the annual TAC for Atka mackerel. In 2007, NMFS implemented the Amendment 80 Program (72 FR 52668, September 14, 2007). The Amendment 80 Program modified the management of several non-pollock species in the BSAI that are subject to sideboard limits under the AFA Program. Under regulations that implemented the Amendment 80 Program, no more than 10 percent of the Central AI Atka mackerel TAC may be harvested by vessels other than Amendment 80 vessels, which are designated as the BSAI trawl limited access sector and include AFA C/Ps (§ 679.91(c)(2)(ii) and Table 33 to 50 CFR part 679). Therefore the maximum amount of the Central AI Atka mackerel TAC available to AFA C/Ps under regulations implementing Amendment 80 (10 percent) is less than the sideboard limit established for AFA C/Ps when the AFA Program was implemented in 2000 (11.5 percent). By constraining the AFA C/Ps directed fishing for Central AI Atka mackerel, the more restrictive allocation of TAC under the Amendment 80 Program is, effectively, a conservation and management measure that operates similar to the larger sideboard limit established for Central AI Atka mackerel under the AFA groundfish sideboard regulations. Additional detail on the Amendment 80 Program is provided in the final rule for that program (72 FR 52668, September 14, 2007).

Section 679.64(b) establishes sideboard limits for AFA CVs. Section 679.64(b)(3)(i) through (iii) establishes sideboard limits for groundfish in the BSAI using a variety of methods that depend on the species (e.g., the method for calculating the sideboard limit for BSAI Pacific cod differs from yellowfin sole). These methods are described at § 679.64(b)(3)(i) for BSAI groundfish other than Amendment 80 species; at § 679.64(b)(3)(ii) for BSAI Pacific cod; and at § 679.64(b)(3)(iii) for Amendment 80 species other than Pacific cod. Section 679.64(b)(3)(iv) establishes sideboard limits for AFA CVs for groundfish species in the GOA. The final rule implementing the AFA Program provides additional information on the management of sideboard limits for AFA CVs (67 FR 79692, December 30, 2002).

Section 679.64(b)(2) exempts specific AFA CVs from sideboard limits in the BSAI (§ 679.64(b)(2)(i)) and the GOA (§ 679.64(b)(2)(ii)) based on criteria described in § 679.64(b)(2). These exemptions are intended to provide opportunities for vessels that have historically fished in the BSAI or GOA for species other than pollock, but that also have some limited participation in the Bering Sea pollock fisheries. This proposed rule would not affect the management of exempt AFA catcher vessels.

The CR Program and CR Program Sideboard Limits

The CR Program is a LAPP that allocates nine BSAI crab species among harvesters, processors, and coastal communities. Participants in the CR Program receive exclusive harvesting and processing privileges for a portion of the annual TAC established for each crab fishery under the CR Program. The final rule implementing the CR Program describes the different elements of the program, including groundfish sideboard limits in the GOA for vessels and LLP licenses that received allocations of exclusive harvesting privileges (quota share) under the CR Program (70 FR 10174, March 2, 2005). These sideboard limits were developed to protect participants in other non-CR Program groundfish fisheries from increased participation by CR Program vessels in the GOA, as discussed in Section 2.7.2 of the Analysis. Essentially, the CR Program sideboard limits protect non-CR Program participants by restricting the ability of CR Program participants to target non-crab fisheries (i.e., GOA groundfish fisheries).

CR Program sideboard limits are established for a variety of species and species groups and gear types, including pot, hook-and-line, jig, and trawl gear. CR Program sideboard limits are only applicable in the GOA. Section 680.22 establishes groundfish sideboard limits for vessels and LLP licenses with a history of participation in the Bering Sea snow crab (Chionoecetes opilio) fishery. Sideboard harvest limits restrict these vessels' catch to their collective historical landings in each GOA groundfish fishery. Sideboard limits also apply to landings made using an LLP license derived from the history of a restricted vessel, even if that LLP license is used on another vessel. CR Program sideboard limits do not apply to AFA catcher vessels because these vessels already are subject to GOA sideboard limits under the AFA Program.

Various final rules implementing provisions of the CR Program describe the basis for these sideboard harvest limits. These final rules include Amendments 18 and 19 to the Crab FMP (70 FR 10174, March 2, 2005), Amendment 34 to the Crab FMP (76 FR 35772, June 20, 2011), Amendment 83 to the GOA FMP (76 FR 74670, December 1, 2011), and Amendment 45 to the Crab FMP (80 FR 28539, May 19, 2015).

Annual Harvest Specifications Process and the Management of AFA Program and CR Program Sideboard Limits

NMFS establishes the overfishing level, acceptable biological catch (ABC), and TAC for each species or species group through the annual groundfish harvest specifications process. NMFS allows vessels to retain incidental catch of species (if the TAC has not been reached) taken in other directed fisheries that are open, up to the maximum retainable amount (MRA) allowed in regulation (§ 679.20(e)). If a species is closed to directed fishing, and the TAC for that species is reached, NMFS prohibits retention of that species, and all catch of that species must be discarded. A MRA is calculated as a percentage of the retained amount of a species that is closed to directed fishing, relative to the retained amount of basis species or species groups open to directed fishing. Amounts that are caught greater than a particular MRA percentage must be discarded.

In the annual harvest specifications, NMFS calculates sideboard limits for the AFA Program and the CR Program fisheries by multiplying a fixed ratio against the annual TAC or portion of the TAC for each BSAI and GOA groundfish species or species group. These ratios are derived based on the specific regulations described earlier in this preamble. The annual sideboard limit for most BSAI and GOA groundfish species is an amount that is much smaller than the overall TAC for each species. For the most recent example of the annual groundfish harvest specifications and associated AFA Program and CR Program sideboard limits, see the final 2018 and 2019 harvest specifications for the BSAI and GOA (83 FR 8365, February 27, 2018, and 83 FR 8768, March 1, 2018, respectively).

Consistent with regulations at §§ 679.64 and 680.22, NMFS manages the AFA Program and CR Program sideboard limits by establishing directed fishing closures for a species or species group subject to a sideboard limit. This closure could happen during the fishing year if a particular sideboard limit is reached. Alternatively, NMFS may issue a directed fishing closure in the harvest specifications prior to the fishing year, if the sideboard limit is not sufficient to support directed fishing for a species or species group. NMFS has prohibited directed fishing for the majority of AFA CV and C/P sideboard limits since the initial implementation of the AFA Program implementation in 2000 (65 FR 4520, January 28, 2000). NMFS also has prohibited directed fishing for the majority of CR Program sideboard limits in the GOA since CR Program was implemented in 2006. Directed fishing prohibitions have been issued because the sideboard limits for most species were insufficient to provide for both directed fishing of a species and incidental catch of that same species in other target fisheries.

Section 2.7.1 of the Analysis describes the groundfish species subject to AFA CV and C/P sideboard limits that have been closed to directed fishing each year in the annual harvest specifications, and the limited number of groundfish species that have sideboard limits that have been sufficiently large to allow for directed fishing. Section 2.7.2 of the Analysis describes the groundfish species in the GOA subject to CR Program sideboard limits that have been closed to directed fishing each year in the annual harvest specifications, and the one groundfish species (Pacific cod) and gear type (pot) that has sideboard limits that have been sufficiently large to allow for directed fishing.

AFA Inshore Cooperative Weekly Catch Report Requirements

In addition to the Council's recommendations for proposed revisions to AFA Program and CR Program sideboard limits, NMFS also proposes to remove the requirement for the designated representatives of AFA inshore cooperatives to submit a weekly catch report described in regulation at §§ 679.5(o) and 679.62(b)(3) because this report is no longer necessary to manage the AFA inshore pollock allocations. NMFS obtains the necessary information required on the AFA inshore cooperative weekly report through other reporting requirements at § 679.5(e). Removing this reporting requirement would reduce costs for the public to prepare and submit the weekly reports and for NMFS to review and process those weekly reports.

Proposed Rule

Action 1: Establishing Sideboard Limits in Regulation

Under Action 1, NMFS would no longer publish AFA Program or CR Program sideboard amounts for specific species or species groups in the Federal Register as part of the annual groundfish harvest specifications, but would specify in regulation those species with sideboard limits that are subject to a directed fishing closure. Specification through regulation of these directed fishing closures will streamline and simplify NMFS's management of these applicable groundfish sideboard limits. NMFS would no longer need to calculate the applicable sideboard limits, prepare the necessary tables, and publish those sideboard limits and their corresponding directed fishing prohibitions each year in the BSAI and GOA groundfish harvest specifications. This will reduce staff time and annual costs to prepare and publish the BSAI and GOA groundfish harvest specifications.

This proposed rule would not modify the ability of sideboard-restricted vessels to retain incidental catch of species closed to directed fishing while targeting other species. Vessels are allowed to retain incidental catch of species up to the MRA if the TAC of that species has not been reached, and once the TAC is reached, all retention of that species is prohibited. The regulations governing incidental catch, MRAs, and PSC status apply when a species is closed to directed fishing, whether closed to directed fishing through the annual BSAI and GOA harvest specifications or through a specific regulation. Accordingly, under this proposed rule, sideboard restricted vessels will remain subject to the same regulations governing the incidental catch of species or species groups with sideboard limits that are closed to directed fishing, and this proposed rule would not change NMFS's inseason management of sideboard limits. Moreover, the proposed approach that continues directed fishing closures for sideboard limits for AFA and CR Program vessels would continue to protect non-AFA and non-CR Program participants in other fisheries, in accordance with the original intent of creating sideboard limits (see Section 2.7.1 and 2.7.2 of the Analysis).

This proposed rule would affect the sideboard limits for AFA CVs in the BSAI, AFA CVs in the GOA, AFA C/Ps in the BSAI, and non-AFA crab vessels in the GOA. For AFA CVs fishing in the BSAI, NMFS sets sideboard limits for 16 different groundfish species or species groups; however, in the annual harvest specifications, NMFS has closed most sideboard species to directed fishing by AFA CVs. Often, the sideboard amounts for these species are insufficient to support a directed fishery by the AFA CVs that are subject to the sideboard limit. Also, some sideboard species are not opened to AFA CVs for directed fishing because the species is fully allocated to the Amendment 80 Program (e.g., flathead sole, rock sole) or because there are no PSC sideboard limits apportioned to support directed fishing (e.g., Greenland turbot, arrowtooth flounder, Kamchatka flounder). A list of BSAI species or species groups with sideboard limits that are proposed to be closed in regulation to directed fishing by AFA CVs is provided in Table 2-5 of the Analysis. In the BSAI, AFA CVs have historically targeted two sideboard-limited species (Pacific cod and yellowfin sole), and this proposed rule would not change the management of those sideboard fisheries that have opened for directed fishing in the past and that likely would continue to support a directed fishery for those species and for certain gear types for Pacific cod (see Table 2-6 of the Analysis).

Similarly, for AFA CVs fishing in the GOA, NMFS sets sideboard limits for different groundfish species or species groups, and through the harvest specifications NMFS closes many of those sideboard species to directed fishing by AFA CVs. In the GOA, many of the sideboards amounts cannot support a directed fishery by the AFA CVs that are subject to the sideboard limits. A list of the GOA species or species groups with sideboard limits that are proposed to be closed in regulation to directed fishing by AFA CVs is provided in Table 2-7 of the Analysis, while Table 2-8 of the Analysis lists those sideboard limits that will remain open to directed fishing because the sideboard limits for those species have been sufficient and likely will remain sufficient to support a directed fishery by AFA CVs.

For AFA C/Ps in the BSAI, many of the BSAI groundfish harvesting sideboards are also not open for directed fishing, for reasons similar to the management of AFA CVs in the BSAI. First, many of the sideboard limits are insufficient to support a directed fishery by the AFA C/Ps that are subject to the sideboard limit. In addition, some sideboards for AFA C/Ps are not available for directed fishing because the species is fully allocated to the Amendment 80 Program (e.g., flathead sole, rock sole, Western AI Atka mackerel) or because there are no PSC limits apportioned to support directed fishing. A list of the BSAI species or species groups with sideboard limits that are proposed to be closed in regulation to directed fishing by AFA C/Ps is provided in Table 2-9 of the Analysis, while Table 2-10 of the Analysis lists those sideboard limits that will remain open to directed fishing because the sideboard limits for those species have been sufficient and likely will remain sufficient to support a directed fishery by AFA C/Ps.

As explained earlier, the CR Program regulations establish sideboard limits to restrict the ability of non-AFA crab vessels to target groundfish species and species groups in the GOA. Since implementation of the CR Program sideboard limits in 2006, the only sideboard limits large enough to support directed fishing have been the Western and Central GOA Pacific cod pot catcher vessel sideboard limits, and in some years the Western GOA Pacific cod pot catcher/processor sideboard limit. All other sideboard limits have been closed for directed fishing because they are not sufficient to provide for a directed fishery by crab vessels. A list of the GOA sideboard limits that would be replaced with a prohibition on directed fishing is provided in Table 2-11 of the Analysis, while Table 2-12 shows sideboard limits for those Western and Central GOA Pacific cod pot catcher vessels that would not be affected by the proposed action and that likely would remain open for directed fishing.

In both the BSAI and GOA, many of the sideboard limits are not large enough to support a directed fishery by AFA CVs and C/Ps and crab vessels, which means that NMFS cannot actively manage those fisheries to ensure a timely closure and prevent retention in excess of the TAC set for that year. It is highly unlikely that the TACs of any of the sideboard species would increase significantly enough in the foreseeable future to result in a large enough sideboard limit to allow directed fishing of the sideboard allowance. Because factors such as TAC are not likely to change significantly enough to provide AFA vessels and crab vessels with groundfish sideboard limits sufficient to support a directed fishery, NMFS has determined it would be more efficient to close those sideboard limits to directed fishing in regulation, rather than continuing to specify those sideboard limits and close them to directed fishing every year through the annual harvest specifications.

Accordingly, under Action 1, this proposed rule would implement the Council's recommendation (Option 1 to Alternative 2, the preferred alternative) to:

• Prohibit directed fishing for most AFA Program and CR Program groundfish sideboard limits by adding Tables 54, 55, and 56 to 50 CFR part 679 to list the AFA Program sideboard species prohibited to directed fishing; and by adding Table 11 to 50 CFR part 680 to list the CR Program sideboard species prohibited to directed fishing;

• remove a regulation (§ 679.64(a)(1)(ii)(B)) establishing the annual Central AI Atka mackerel sideboard limit for AFA C/Ps; and

• make other minor regulatory amendments necessary to establish directed fishery closures for specific species and species groups in regulation.

This proposed rule would revise § 679.20(d) by adding a new paragraph to prohibit directed fishing for the species sideboard limits listed in proposed Tables 54, 55, and 56 to 50 CFR part 679. Existing regulations associated with establishing sideboard directed fishing allowances would be retained, as they are needed for those species or species groups that would continue to have sideboard limits established through the annual harvest specifications. In addition, § 679.64(a)(3) would be revised to add a paragraph describing that proposed Table 54 to 50 CFR part 679 contains the BSAI species or species groups prohibited for directed fishing by AFA C/Ps. Similarly, § 679.64(b)(5) would be revised to add a paragraph that describes proposed Tables 55 and 56 to 50 CFR part 679. These two tables list the species or species groups for which directed fishing by AFA CVs is prohibited in the BSAI and GOA, respectively.

Regarding the Central AI Atka mackerel sideboard limit for AFA C/Ps, this proposed rule would remove § 679.64(a)(1)(ii)(B). That regulation specifies the AFA C/Ps Central AI Atka mackerel sideboard limit of 11.5 percent of the annual Central AI TAC, which is based on the sideboard limit set forth in Section 211(b)(2)(C)(i)) of the AFA. However, since the implementation of the Amendment 80 Program in 2008, the percentage of the initial TAC for the sector in which AFA C/Ps are authorized to participate (the BSAI trawl limited access sector) is only 10 percent. Therefore, the maximum amount of the Central AI Atka mackerel TAC available to AFA C/Ps under regulations implementing Amendment 80 (10 percent) is less than the sideboard limit established for AFA C/Ps when the AFA Program was implemented in 2000 (11.5 percent). Since the BSAI trawl limited access sector allocation is less than the sideboard limit, the sideboard limit no longer constrains AFA C/Ps. NMFS believes that the proposed revision to remove the regulation that specifies the sideboard limit for Central AI Atka mackerel for AFA C/Ps is consistent with Section 211 of the AFA. Section 211(a) of the AFA allows the Council to recommend, and NMFS to approve, conservation and management measures necessary to protect other fisheries from the adverse impacts caused by the AFA. The current allocation of Atka mackerel available to AFA C/Ps (10 percent of the TAC) is effectively a conservation and management measure that protects participants in other non-AFA fisheries by limiting the amount of Atka mackerel that AFA C/Ps can potentially harvest to less than 11.5 percent of the TAC available to AFA C/Ps under the existing sideboard limit established under Section 211(b)(2)(C)(i) of the AFA. Under the proposed rule, NMFS would no longer specify the AFA C/P sideboard limit for Central AI Atka mackerel; however, that fishery would remain open to directed fishing, and AFA C/Ps as part of the BSAI trawl limited access sector would remain constrained under existing regulations to harvesting up to the 10 percent of the allocation to the BSAI trawl limited access sector (50 CFR 679.91(c)(2)(ii) and Table 33 to 50 CFR part 679).

For the CR Program sideboard limits, this proposed rule would revise § 680.22(e) to describe the permanent prohibition for directed fishing for most GOA groundfish species by non-AFA crab vessels in the GOA. This paragraph would include a reference to proposed Table 11 to 50 CFR part 680, which lists the species or species groups for which directed fishing for sideboard limits is prohibited.

Action 2: Removal of the AFA Inshore Cooperative Catch Report From Regulation

In addition to the Council's recommendation for revising the management of AFA Program and CR Program sideboard limits, NMFS also proposes to remove the requirements for the AFA inshore cooperative weekly catch report described in regulations at §§ 679.5(o) and 679.62(b)(3). This report is no longer necessary to manage the AFA inshore pollock allocations. NMFS has direct and immediate access to observer and landings data to track catch by the cooperatives and does not need the information submitted by the cooperatives to monitor the Bering Sea pollock fisheries. Eliminating this weekly reporting requirement will reduce the burden on the designated representatives of AFA inshore cooperatives to prepare and submit these reports to NMFS weekly, will reduce costs to the members of the AFA inshore cooperatives to pay for the preparation and submission of these weekly reports, and will reduce the time and costs that NMFS incurs in processing and reviewing the weekly reports.

Classification

Pursuant to sections 304(b)(1)(A) and 305(d) of the Magnuson-Stevens Act, the NMFS Assistant Administrator has determined that this proposed rule is consistent with the BSAI FMP, the GOA FMP, the Crab FMP, other provisions of the Magnuson-Stevens Act, and other applicable law, subject to further consideration of comments received during the public comment period.

This proposed rule has been determined to be not significant for the purposes of Executive Order 12866.

Regulatory Impact Review (RIR)

An RIR was prepared to assess the costs and benefits of available regulatory alternatives. A copy of this analysis is available from NMFS (see ADDRESSES). The Council recommended the regulatory revisions in this proposed rule based on those measures that maximized net benefits to the Nation. Specific aspects of the economic analysis related to the impact of this proposed rule on small entities are discussed below in the Initial Regulatory Flexibility Analysis section.

Initial Regulatory Flexibility Analysis (IRFA)

This IRFA was prepared for this proposed rule, as required by section 603 of the Regulatory Flexibility Act (RFA) (5 U.S.C. 603), to describe the economic impact this proposed rule, if adopted, would have on small entities. An IRFA describes why this action is being proposed; the objectives and legal basis for the proposed rule; the number of small entities to which the proposed rule would apply; any projected reporting, recordkeeping, or other compliance requirements of the proposed rule; any overlapping, duplicative, or conflicting Federal rules; and any significant alternatives to the proposed rule that would accomplish the stated objectives, consistent with applicable statutes, and that would minimize any significant adverse economic impacts of the proposed rule on small entities. Descriptions of this proposed rule, its purpose, and the legal basis are contained earlier in this preamble and are not repeated here.

Number and Description of Small Entities Regulated by This Proposed Rule

NMFS has determined that vessels that are members of a fishing cooperative are affiliated when classifying them for the RFA analyses. In making this determination, NMFS considered the Small Business Administration's (SBA) “principles of affiliation” at 13 CFR 121.103. Specifically, in § 121.103(f), SBA refers to “[a]ffiliation based on identity of interest,” which states affiliation may arise among two or more persons with an identity of interest. Individuals or firms that have identical or substantially identical business or economic interests (such as family members, individuals or firms with common investments, or firms that are economically dependent through contractual or other relationships) may be treated as one party with such interests aggregated. If business entities are affiliated, then the threshold for identifying small entities is applied to the group of affiliated entities rather than on an individual entity basis.

There are 93 active AFA catcher vessels that are restricted by sideboard limits in the BSAI and GOA, 17 active catcher/processors that are restricted by sideboard limits in the BSAI, and 95 CR Program active catcher vessels that are restricted by sideboard limits in the GOA. These vessels are members of an AFA cooperative for Bering Sea pollock or a Bering Sea Crab Cooperative and are therefore considered to be large entities via their cooperative affiliation. Other than these vessels, there are 18 vessels that are restricted by sideboard limits in the BSAI and GOA and that are not members of an AFA or crab cooperative. These 18 vessels may be considered small entities under the RFA because they likely have combined annual gross receipts not in excess of $11.0 million.

This proposed rule would directly regulate those vessel operators that are restricted by AFA Program and CR Program groundfish sideboard limits in the BSAI and GOA, and AFA inshore cooperatives that are required to submit an AFA inshore cooperative weekly report. All persons required to submit an AFA inshore cooperative weekly report are also subject to sideboard limits under the AFA Program. Therefore, the number of directly regulated entities under this proposed rule is equal to the number of vessel operators restricted by AFA Program and CR Program groundfish sideboard limits in the BSAI and GOA. The thresholds applied to determine if an entity or group of entities are “small” under the RFA depend on the industry classification for the entity or entities. Businesses classified as primarily engaged in commercial fishing are considered small entities if they have combined annual gross receipts not in excess of $11.0 million for all affiliated operations worldwide (81 FR 4469; January 26, 2016). Businesses classified as primarily engaged in fish processing are considered small entities if they employ 750 or fewer persons on a full-time, part-time, temporary, or other basis, at all affiliated operations worldwide. Since at least 1993, NMFS Alaska Region has considered catcher/processors to be predominantly engaged in fish harvesting rather than fish processing. Under this classification, the threshold of $11.0 million in annual gross receipts is appropriate.

Based on this analysis, NMFS preliminarily determines that there are 18 entities that may be considered small and would be affected by this proposed rule. However, due to the complexity of the affiliation among the entities and the overlay of affiliation due to ownership and affiliation based on the contractual relationship among members of cooperatives, it is not certain these 18 entities are small entities, as defined by the RFA, that could be affected by this proposed rule. Nonetheless, NMFS has prepared this IRFA, which provides potentially affected small entities an opportunity to provide comments on this IRFA. NMFS will evaluate any comments received on the IRFA and may consider certifying under section 605 of the RFA (5 U.S.C. 605) that this action will not have a significant economic impact on a substantial number of small entities prior to publication of the final rule.

The only potential adverse economic impacts on directly regulated small entities that have been identified for this proposed rule are if the ABC and corresponding TAC for the species for which directed fishing would be closed significantly increased. With respect to potential changes in ABCs and TACs, NMFS does not anticipate that there will be significant increases to the groundfish species' ABCs and TACs associated with this action to the degree that the increases could allow for a directed fishery for a given species. Sideboard limits represent a very small proportion of a given annual groundfish TAC. If a particular species' biomass, ABC, and TAC increased to a level that could potentially allow for a directed fishery for that species' sideboard limit, such a substantial change in biomass and harvest control rules would also give rise to other potential management considerations beyond just increasing sideboard limits. With regards to the potential that the Amendment 80 Program allocations of groundfish (specifically Central AI Atka mackerel) could change, NMFS considers that prospect highly unlikely. The AFA and Amendment 80 fishery management programs in the BSAI are currently stable. The groundfish allocations established by these programs have not been modified since they were implemented, and there are no foreseeable changes in the allocations established under the Amendment 80 Program. If such allocative changes were proposed, the Council and NMFS would conduct a comprehensive analysis as part of any potential future action of how such changes could affect the sideboard limits associated with this action.

Recordkeeping, Reporting, and Other Compliance Requirements

This proposed rule would remove a recordkeeping and reporting requirement for the submittal of AFA inshore cooperative weekly catch reports. Such reports are no longer necessary to assist NMFS with managing the AFA inshore pollock fisheries, as the information in such reports has been superseded by more contemporary, electronic data reporting. The proposal to remove these requirements is anticipated to reduce the cost in total to the public by approximately $8,475 per year, and is anticipated to reduce costs to NMFS by approximately $5,400 per year.

No small entity is subject to reporting requirements that are in addition to or different from the requirements that apply to all directly regulated entities.

Duplicate, Overlapping, or Conflicting Federal Rules

No duplication, overlap, or conflict between this proposed rule and existing Federal rules has been identified.

Description of Significant Alternatives That Minimize Adverse Impacts on Small Entities

No significant alternatives were identified that would accomplish the stated objectives for streamlining the management of AFA and CR Program sideboard limits by prohibiting in regulation certain species sideboard limits, are consistent with applicable statutes, and that would reduce costs to potentially affected small entities more than the proposed rule. The Council and NMFS considered two alternatives for action one of this proposed rule. Alternative 1 is the no action alternative. This alternative would continue the annual establishment of the sideboard limits for all the species listed in proposed Tables 54, 55, and 56 to 50 CFR part 679, as well as proposed Table 11 to 50 CFR part 680, and would maintain the sideboard limit for Central AI Atka mackerel for AFA C/Ps. These sideboard species have insufficient sideboard limits to support directed fishing, are fully allocated to other catch share programs, or for a variety of other reasons are closed to directed fishing. NMFS would continue to prohibit directed fishing for these sideboard fisheries via the annual harvest specifications, except for the Central AI Atka mackerel sideboard limit for AFA C/Ps.

Alternative 2, along with Option 1 (the preferred alternative), provides the greatest economic benefits. The primary economic benefit of this proposed rule is to reduce NMFS's administrative burden of managing most AFA Program and CR Program sideboards through the annual harvest specifications process. Implementation of Alternative 2 through this proposed rule would streamline the preparation of the BSAI and GOA annual harvest specifications, simplify NMFS's annual programming changes to the groundfish catch accounting system, and reduce the future costs of publishing the annual harvest specifications in the Federal Register each year. The economic effects on fishery participants that are affected by this proposed action primarily are neutral. The removal of the AFA inshore cooperative weekly catch report requirement would, however, provide a modest economic benefit for AFA inshore cooperatives.

Collection-of-Information Requirements

This proposed rule addresses a collection-of-information requirement subject to review and approval by the Office of Management and Budget (OMB) under the Paperwork Reduction Act (PRA) and which has been approved by OMB under control number 0648-0401 (AFA Reports). The proposed rule would not add any new information collection requirements, but would remove the regulatory requirement for the AFA inshore cooperative weekly catch report. The public reporting burden for the AFA inshore cooperative weekly catch report is estimated to average 45 minutes per response, which includes the time for reviewing instructions, searching existing data sources, gathering and maintaining the data needed, and completing and reviewing the collection of information. The proposal to remove this collection of information requirement has been submitted to OMB for approval.

Public comment is sought regarding the proposal to remove the requirement for the AFA inshore cooperative weekly catch report and the burden hour estimate for this report. Send comments on these or any other aspects of the collection of information to NMFS Alaska Region (see ADDRESSES) and to OIRA by email to OIRA_Submission@omb.eop.gov or by fax to (202) 395-5806.

Notwithstanding any other provision of the law, no person is required to respond to, and no person shall be subject to penalty for failure to comply with, a collection of information subject to the requirements of the PRA, unless that collection of information displays a currently valid OMB control number. All currently approved NOAA collections of information may be viewed at http://www.cio.noaa.gov/services_programs/prasubs.html.

List of Subjects

50 CFR Part 679

Alaska, Fisheries, Reporting and recordkeeping requirements.

50 CFR Part 680

Alaska, Reporting and recordkeeping requirements.

Dated: August 9, 2018.
Samuel D. Rauch, III,
Deputy Assistant Administrator for Regulatory Programs, National Marine Fisheries Service.

For the reasons set out in the preamble, NMFS proposes to amend 50 CFR part 679 and part 680 as follows:

PART 679—FISHERIES OF THE EXCLUSIVE ECONOMIC ZONE OFF ALASKA

1. The authority citation for part 679 continues to read as follows:

Authority: 16 U.S.C. 773 et seq.; 1801 et seq.; 3631 et seq.; Pub. L. 108-447; Pub. L. 111-281.

§ 679.5 Recordkeeping and reporting (R&R) [Amended]

2. In § 679.5, remove and reserve paragraph (o).

3. In § 679.20, add paragraph (d)(1)(iv)(D) to read as follows:

§ 679.20 General limitations.

* * * * *

(d) * * *

(1) * * *

(iv) * * *

(D) Species or species groups for which directed fishing for sideboard limits by AFA vessels is prohibited are listed in Tables 54, 55, and 56 to this part.

* * * * *

§ 679.62 Inshore sector cooperative allocation program [Amended]

4. In § 679.62, remove paragraph (b)(3).

5. In § 679.64,

a. Revise paragraph (a)(1)(ii)(A);

b. Remove paragraph (a)(1)(ii)(B);

c. Redesignate paragraph (a)(1)(ii)(C) as paragraph (a)(1)(ii)(B); and

d. Revise paragraphs (a)(3) and (b)(5) to read as follows:

§ 679.64 Harvesting sideboard limits in other fisheries.

(a) * * *

(1) * * *

(ii) * * *

(A) Bering Sea subarea and Eastern Aleutian Islands, zero; and

* * * * *

(3) How will AFA catcher/processor sideboard limits be managed? (i) The Regional Administrator will manage groundfish harvest limits and PSC bycatch limits for AFA catcher/processors through directed fishing closures in fisheries established under paragraph (a)(1) of this section in accordance with the procedures set out in §§ 679.20(d)(1)(iv) and 679.21(b)(4)(iii).

(ii) Directed fishing for the BSAI groundfish sideboard limits listed in Table 54 of this part is prohibited.

* * * * *

(b) * * *

(5) How will catcher vessel sideboard limits be managed? (i) The Regional Administrator will manage groundfish harvest limits and PSC bycatch limits for AFA catcher vessels using directed fishing closures according to the procedures set out at §§ 679.20(d)(1)(iv) and 679.21(d)(7) and (e)(3)(v).

(ii) Directed fishing for the BSAI groundfish sideboard limits listed in Table 55 of this part and the GOA groundfish sideboard limits listed in Table 56 of this part is prohibited.

* * * * *

6. Add and reserve Table 52 to part 679.

7. Add and reserve Table 53 to part 679.

8. Add Table 54 to part 679 to read as follows:

Table 54—BSAI Species and Species Groups for Which Directed Fishing for Sideboard Limits by Listed AFA Catcher/Processors and Catcher/Processors Designated on Listed AFA Catcher/Processor Permits Is Prohibited
Species or species group | Management area or subarea
Sablefish, trawl gear | Bering Sea (BS) subarea of the BSAI.
| Aleutian Islands (AI).
Atka mackerel | BS/Eastern Aleutian District.
| Western Aleutian District.
Rock sole | BSAI.
Greenland turbot | Bering Sea subarea of the BSAI.
| AI.
Arrowtooth flounder | BSAI.
Kamchatka flounder | BSAI.
Flathead sole | BSAI.
Alaska plaice | BSAI.
Other flatfish | BSAI.
Pacific ocean perch | Bering Sea subarea of the BSAI.
| Eastern Aleutian District.
| Central Aleutian District.
| Western Aleutian District.
Northern rockfish | BSAI.
Shortraker rockfish | BSAI.
Rougheye rockfish | Bering Sea subarea of the BSAI/Eastern Aleutian District.
| Central Aleutian District/Western Aleutian District.
Other rockfish | BS.
| AI.
Skates | BSAI.
Sculpins | BSAI.
Sharks | BSAI.
Octopuses | BSAI.

9. Add Table 55 to part 679 to read as follows:

Table 55—BSAI Species and Species Groups for Which Directed Fishing for Sideboard Limits by Non-Exempt AFA Catcher Vessels Is Prohibited
Species or species group | Management area or subarea | Gear type
Pacific cod | BSAI | Jig.
|  | Hook-and-line catcher vessel ≥60 ft.
|  | Hook-and-line catcher vessel ≤60 ft.
|  | Pot.
Sablefish, trawl gear | Bering Sea subarea of the BSAI | All.
| AI | All.
Atka mackerel | BSAI | All.
Rock sole | BSAI | All.
Greenland turbot | BS | All.
| AI | All.
Arrowtooth flounder | BSAI | All.
Kamchatka flounder | BSAI | All.
Alaska plaice | BSAI | All.
Other flatfish | BSAI | All.
Flathead sole | BSAI | All.
Pacific ocean perch | BS | All.
| Eastern Aleutian District | All.
| Central Aleutian District | All.
| Western Aleutian District | All.
Northern rockfish | BSAI | All.
Shortraker rockfish | BSAI | All.
Rougheye rockfish | Bering Sea subarea of the BSAI/Eastern Aleutian District | All.
| Central Aleutian District/Western Aleutian District | All.
Other rockfish | Bering Sea subarea of the BSAI | All.
| AI | All.
Skates | BSAI | All.
Sculpins | BSAI | All.
Sharks | BSAI | All.
Octopuses | BSAI | All.

10. Add Table 56 to part 679 to read as follows:

Table 56—GOA Species and Species Groups for Which Directed Fishing for Sideboard Limits by Non-Exempt AFA Catcher Vessels Is Prohibited
Species or species group | Management or regulatory area and processing component (if applicable)
Pacific cod | Eastern GOA, inshore component.
| Eastern GOA, offshore component.
| Western GOA.
Sablefish | Central GOA.
| Eastern GOA.
Shallow-water flatfish | Eastern GOA.
Deep-water flatfish | Western GOA.
Rex sole | Western GOA.
| Eastern GOA.
Arrowtooth flounder | Western GOA.
| Eastern GOA.
Flathead sole | Western GOA.
| Eastern GOA.
Pacific ocean perch | Western GOA.
Northern rockfish | Western GOA.
Shortraker rockfish | Western GOA.
| Central GOA.
| Eastern GOA.
Dusky rockfish | Western GOA.
| Central GOA.
| Eastern GOA.
Rougheye rockfish | Western GOA.
| Central GOA.
| Eastern GOA.
Demersal shelf rockfish | Southeast Outside District.
Thornyhead rockfish | Western GOA.
| Central GOA.
| Eastern GOA.
Other rockfish | Central GOA.
| Eastern GOA.
Atka mackerel | GOA.
| Western GOA.
Big skates | Central GOA.
| Eastern GOA.
Longnose skates | Western GOA.
| Central GOA.
| Eastern GOA.
Other skates | GOA.
Sculpins | GOA.
Sharks | GOA.
Octopuses | GOA.

* * * * *

PART 680—FISHERIES OF THE EXCLUSIVE ECONOMIC ZONE OFF ALASKA

11. The authority citation for part 680 continues to read as follows:

Authority: 16 U.S.C. 1862; Pub. L., 109-241; Pub. L. 109-479.

12. In § 680.22, revise paragraph (e)(1)(i) to read as follows:

§ 680.22 Sideboard protections for GOA groundfish fisheries

* * * * *

(e) * * *

(1) * * *

(i) Except as provided in paragraph (e)(1)(ii) of this section, annual sideboard harvest limits for each groundfish species, except fixed-gear sablefish, will be established by multiplying the sideboard ratios calculated under paragraph (d) of this section by the proposed and final TACs in each area for which a TAC is specified. If a TAC is further apportioned by season, the sideboard harvest limit also will be apportioned by season in the same ratio as the overall TAC. The resulting harvest limits expressed in metric tons will be published in the annual GOA groundfish harvest specification notices, except for those species for which directed fishing for sideboard limits is prohibited (see paragraph (e)(2)(ii) of this section and Table 11 to this part).

* * * * *

13. Add Table 11 to part 680 to read as follows:

Table 11—Gulf of Alaska Species and Species Groups for Which Directed Fishing for Sideboard Limits by Non-AFA Crab Vessels Is Prohibited
Species or species group | Management area or regulatory area, processing component (if applicable), and gear type (if applicable)
Pollock | Shumagin (Management Area 610).
| Chirikof (Management Area 620).
| Kodiak (Management Area 630).
| Western Yakutat District.
| Southeast Outside District.
| Area | Gear, vessel type
Pacific cod | Western GOA | Jig. Hook-and-line Catcher Vessel. Trawl Catcher Vessel.
| Central GOA | Jig. Hook-and-line Catcher Vessel. Trawl Catcher Vessel.
| Eastern GOA, inshore component.
| Eastern GOA, offshore component.
Sablefish, trawl gear | Western GOA.
| Central GOA.
| Eastern GOA.
Shallow-water flatfish | Western GOA.
| Central GOA.
| Eastern GOA.
Deep-water flatfish | Western GOA.
| Central GOA.
| Eastern GOA.
Rex sole | Western GOA.
| Central GOA.
| Eastern GOA.
Arrowtooth Flounder | Western GOA.
| Central GOA.
| Eastern GOA.
Flathead sole | Western GOA.
| Central GOA.
| Eastern GOA.
Pacific ocean perch | Western GOA.
| Central GOA.
| Eastern GOA.
Northern rockfish | Western GOA.
| Central GOA.
Shortraker rockfish | Western GOA.
| Central GOA.
| Eastern GOA.
Dusky rockfish | Western GOA.
| Central GOA.
| Eastern GOA.
Rougheye rockfish | Western GOA.
| Central GOA.
| Eastern GOA.
Demersal shelf rockfish | Southeast Outside District.
Thornyhead rockfish | Western GOA.
| Central GOA.
| Eastern GOA.
Other rockfish | Western/Central GOA. Eastern GOA.
Atka mackerel | GOA.
Big skates | Western GOA.
| Central GOA.
| Eastern GOA.
Longnose skates | Western GOA.
| Central GOA.
| Eastern GOA.
Other skates | GOA.
Sculpins | GOA.
Sharks | GOA.
Octopuses | GOA.

* * * * *

[FR Doc. 2018-17538 Filed 8-15-18; 8:45 am]

BILLING CODE 3510-22-P